DEPARTMENT OF ENERGY

Federal Energy Regulatory Commission

[Project No. 2420-056]

PacifiCorp; Notice of Application for Temporary Variance of Operation Plan and Soliciting Comments, Motions To Intervene, and Protests

Take notice that the following hydroelectric application has been filed with the Commission and is available for public inspection:

a. Type of Application: Temporary variance of operation plan.

b. Project No.: 2420-056.

c. Date Filed: August 30, 2019, and supplemented on September 10, 2019.

d. Applicant: PacifiCorp.

e. Name of Project: Cutler Hydroelectric Project.

f. Location: The project is located on the Bear River in Cache and Box Elder counties, near Logan, Utah.

g. Filed Pursuant to: Federal Power Act, 16 U.S.C. 791a-825r.

h. Applicant Contact: Ms. Eve Davies, PacifiCorp, 825 NE Multnomah, Suite 1800, Portland, OR 97232, (801) 220-2245.

i. FERC Contact: Linda Stewart, (202) 502-8184, linda.stewart@ferc.gov.

j. Deadline for filing comments, motions to intervene, and protests, is 15 days from the issuance date of this notice by the Commission. The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-2420-056.

The Commission's Rules of Practice and Procedure require all intervenors filing documents with the Commission to serve a copy of that document on each person on the official service list for the project. Further, if an intervenor files comments or documents with the Commission relating to the merits of an issue that may affect the responsibilities of a particular resource agency, they must also serve a copy of the document on that resource agency.

k. Description of Request: PacifiCorp requests a temporary variance to deviate from the reservoir elevation operating range stipulated under the approved operation plan for the project. The variance would allow PacifiCorp to draw down the reservoir and obtain preliminary data that would inform a number of proposed studies for the project's relicensing process. PacifiCorp would also use the drawdown period to perform maintenance work at the project. PacifiCorp proposes to draw down the reservoir to elevation 4,390.5 feet, which is 15.75 feet below the lower limit of the normal operating range. PacifiCorp plans to begin the drawdown on approximately October 25, 2019, with the target drawdown elevation of 4,390.5 feet being reached by November 1, 2019. PacifiCorp anticipates that it would begin refilling the reservoir on approximately November 8, 2019, with the refill taking approximately eight days to complete.

l. Locations of the Application: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should so indicate by writing to the Secretary of the Commission.

n. Comments, Motions to Intervene, or Protests: Anyone may submit comments, a motion to intervene, or a protest in accordance with the requirements of Rules of Practice and Procedure, 18 CFR 385.210, .211, .214. In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title Comments, Motion to Intervene, or Protest as applicable; (2) set forth in the heading the name of the applicant and the project number(s) of the application to which the filing responds; (3) furnish the name, address, and telephone number of the person intervening or protesting; and (4) otherwise comply with the requirements of 18 CFR 385.2001 through 385.2005. All comments, motions to intervene, or protests must set forth their evidentiary basis. A copy of all other filings in reference to this application must be accompanied by proof of service on all persons listed in the service list prepared by the Commission in this proceeding, in accordance with 18 CFR 385.2010.

Dated: September 16, 2019.
Nathaniel J. Davis, Sr.,
Deputy Secretary.

[FR Doc. 2019-20385 Filed 9-19-19; 8:45 am]

BILLING CODE 6717-01-P